ENVIRONMENTAL PROTECTION AGENCY

40 CFR Part 52

[EPA-R09-OAR-2014-0439; FRL-9914-75-Region-9]

Revisions to the California State Implementation Plan, Placer County Air Pollution Control District, Negative Declarations

AGENCY: Environmental Protection Agency (EPA).

ACTION: Direct final rule.

SUMMARY: The Environmental Protection Agency (EPA) is taking direct final action to approve revisions to the Placer County Air Pollution Control District (PCAPCD) portion of the California State Implementation Plan (SIP). These revisions concern negative declarations for volatile organic compound (VOC) source categories for the PCAPCD. We are approving these negative declarations under the Clean Air Act as amended in 1990 (CAA or the Act).

DATES: This rule is effective on October 20, 2014 without further notice, unless EPA receives adverse comments by September 18, 2014. If we receive such comments, we will publish a timely withdrawal in the Federal Register to notify the public that this direct final rule will not take effect.

ADDRESSES: Submit comments, identified by docket number EPA-R09-OAR-2014-0439, by one of the following methods:

1. Federal eRulemaking Portal: www.regulations.gov. Follow the on-line instructions.

2. Email: steckel.andrew@epa.gov.

3. Mail or deliver: Andrew Steckel (Air-4), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or email. www.regulations.gov is an “anonymous access” system, and EPA will not know your identity or contact information unless you provide it in the body of your comment. If you send email directly to EPA, your email address will be automatically captured and included as part of the public comment. If EPA cannot read your comment due to technical difficulties and cannot contact you for clarification, EPA may not be able to consider your comment. Electronic files should avoid the use of special characters, any form of encryption, and be free of any defects or viruses.

Docket: Generally, documents in the docket for this action are available electronically at www.regulations.gov and in hard copy at EPA Region IX, 75 Hawthorne Street, San Francisco, California 94105-3901. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: Stanley Tong, EPA Region IX, (415) 947-4122, tong.stanley@epa.gov.

SUPPLEMENTARY INFORMATION: Throughout this document, “we,” “us,” and “our” refer to EPA.

Table of Contents

I. The State's Submittal

A. What negative declarations did the State submit?

B. Are there other versions of these negative declarations?

C. What is the purpose of the submitted negative declarations?

II. EPA's Evaluation and Action

A. How is EPA evaluating the negative declarations?

B. Do the negative declarations meet the evaluation criteria?

C. EPA's Recommendations

D. Public Comment and Final Action

III. Statutory and Executive Order Reviews

I. The State's Submittal

A. What negative declarations did the State submit?

On February 13, 2014 PCAPCD adopted 16 negative declarations and stated that it did not have sources subject to the Control Techniques Guidelines (CTG) documents listed in Table 1. On April 14, 2014, the California Air Resources Board (CARB) submitted these negative declarations to EPA as a SIP revision.

Table 1—Submitted Negative Declarations
CTG source category | Negative declaration—CTG reference document
Aerospace | EPA-453/R-97-004—Control of VOC Emissions from Coating Operations at Aerospace Manufacturing and Rework Operations.
Automobile and Light-duty Truck Assembly Coatings | EPA-450/2-77-008—Control of Volatile Organic Emissions from Existing Stationary Sources—Volume II: Surface Coating of Cans, Coils, Paper, Fabrics, Automobiles, and Light-Duty Trucks. EPA 450/R-08-006—Control Techniques Guidelines for Automobile and Light-duty Truck Assembly Coatings.
Dry Cleaning (Petroleum) | EPA-450/3-82-009—Control of Volatile Organic Compound Emissions from Large Petroleum Dry Cleaners.
Fiberglass Boat Manufacturing | EPA 453/R-08-004—Control Techniques Guidelines for Fiberglass Boat Manufacturing Materials.
Flexible Package Printing | EPA-453/R-06-003—Control Techniques Guidelines for Flexible Package Printing.
Large Appliances Surface Coatings | EPA-450/2-77-034—Control of Volatile Organic Emissions from Existing Stationary Sources, Volume V: Surface Coating of Large Appliances.
| EPA 453/R-07-004—Control Techniques Guidelines for Large Appliance Coatings.
Magnetic Wire | EPA-450/2-77-033—Control of Volatile Organic Emissions from Existing Stationary Sources, Volume IV: Surface Coating of Insulation of Magnetic Wire.
Metal Furniture Coatings | EPA-450/2-77-032—Control of Volatile Organic Emissions from Existing Stationary Sources, Volume III: Surface Coating of Metal Furniture.
| EPA 453/R-07-005—Control Techniques Guidelines for Metal Furniture Coatings.
Natural Gas/Gasoline | EPA-450/2-83-007—Control of VOC Equipment Leaks from Natural Gas/Gasoline Processing Plants.
Paper and Fabric | EPA-450/2-77-008—Control of Volatile Organic Emissions from Existing Stationary Sources—Volume II: Surface Coating of Cans, Coils, Paper, Fabrics, Automobiles, and Light-Duty Trucks.
Paper, Film, and Foil Coatings | EPA 453/R-07-003—Control Techniques Guidelines for Paper, Film, and Foil Coatings.
Pharmaceutical Products | EPA-450/2-78-029—Control of Volatile Organic Emissions from Manufacture of Synthesized Pharmaceutical Products.
Refineries | EPA-450/2-77-025—Control of Refinery Vacuum Producing Systems, Wastewater Separators, and Process Unit Turnarounds.
| EPA-450/2-78-036—Control of VOC Leaks from Petroleum Refinery Equipment.
Rubber Tires | EPA-450/2-78-030—Control of Volatile Organic Emissions from Manufacture of Pneumatic Rubber Tires.
Ships/Marine Coating | EPA-453/R-94-032 Alternative Control Technology Document—Surface Coating Operations at Shipbuilding and Ship Repair Facilities and Ships 61 FR 44050 Shipbuilding and Ship Repair Operations (Surface Coating).
Synthetic Organic Chemical | EPA-450/3-84-015—Control of VOC Emissions from Air Oxidation Processes in Synthetic Organic Chemical Manufacturing Industry.
| EPA-450/4-91-031—Control of VOC Emissions from Reactor Processes and Distillation Operations in SOCMI.

On June 24, 2014, EPA determined that the PCAPCD negative declarations submitted on April 14, 2014, met the completeness criteria in 40 CFR Part 51 Appendix V, which must be met before formal EPA review.

B. Are there other versions of these negative declarations?

There are no previous versions of PCAPCD's 2014 negative declarations in the SIP.¹

¹ PCAPCD adopted other negative declarations in the past. On October 7, 1997, PCAPCD adopted negative declarations to comply with the 1990 Clean Air Act Amendments. We approved these into the SIP on September 23, 1998 (63 FR 50766). On December 14, 2006, PCAPCD adopted additional negative declarations to comply with the 1997 8-hour ozone National Ambient Air Quality Standards and CARB submitted them to us on July 11, 2007. While we have not acted on this earlier submittal, we have reviewed materials provided with it.

C. What is the purpose of the submitted negative declarations?

The negative declarations were submitted to meet the requirements of CAA section 182(b)(2). Ozone nonattainment areas classified at moderate and above are required to adopt VOC regulations for the published CTG categories and for major non-CTG sources of VOC or NOX. If an ozone nonattainment area does not have stationary sources covered by an EPA published CTG, then the area is required to submit a negative declaration. The negative declarations were submitted because there are no stationary sources exceeding the CTG's applicability threshold within the PCAPCD jurisdiction. EPA's technical support document (TSD) has more information about these negative declarations.

II. EPA's Evaluation and Action

A. How is EPA evaluating the negative declarations?

The negative declarations are submitted as SIP revisions and must be consistent with CAA requirements for Reasonably Available Control Technology (RACT) (see section 182(b)(2)) and SIP relaxation (see sections 110(l) and 193.) To do so, the submittal should provide reasonable assurance that no sources subject to the CTG requirements currently exist or are planned for the PCAPCD.

B. Do the negative declarations meet the evaluation criteria?

We believe these negative declarations are consistent with the relevant policy and guidance regarding RACT and SIP relaxations. The TSD has more information on our evaluation.

C. EPA's Recommendations

We note that in 2006, PCAPCD adopted a negative declaration for the Polyester Resin category, but that this category did not appear in the current submittal. The District should submit a negative declaration for the following CTGs if there are no sources in the District subject to the CTGs. EPA-450/3-83-008—Control of VOC Emissions from Manufacture of High-Density Polyethylene, Polypropylene, and Polystyrene Resins; and

EPA-450/3-83-006—Control of VOC Fugitive Emissions from Synthetic Organic Chemical Polymer and Resin Manufacturing Equipment.

D. Public Comment and Final Action

As authorized in section 110(k)(3) of the Act, EPA is fully approving the submitted negative declarations as additional information to the SIP because we believe they fulfill all relevant requirements. We do not think anyone will object to this approval, so we are finalizing it without proposing it in advance. However, in the Proposed Rules section of this Federal Register, we are simultaneously proposing approval of these negative declarations. If we receive adverse comments by September 18, 2014, we will publish a timely withdrawal in the Federal Register to notify the public that the direct final approval will not take effect and we will address the comments in a subsequent final action based on the proposal. If we do not receive timely adverse comments, the direct final approval will be effective without further notice on October 20, 2014.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address disproportionate human health or environmental effects with practical, appropriate, and legally permissible methods under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by October 20, 2014. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the Proposed Rules section of today's Federal Register, rather than file an immediate petition for judicial review of this direct final rule, so that EPA can withdraw this direct final rule and address the comment in the proposed rulemaking. This action may not be challenged later in proceedings to enforce its requirements (see section 307(b)(2)).

List of Subjects in 40 CFR Part 52

Environmental protection, Air pollution control, Incorporation by reference, Intergovernmental relations, Ozone, Reporting and recordkeeping requirements, Volatile organic compounds.

Dated: July 21, 2014.
Deborah Jordan,
Acting Regional Administrator, Region IX.

Part 52, Chapter I, Title 40 of the Code of Federal Regulations is amended as follows:

PART 52—APPROVAL AND PROMULGATION OF IMPLEMENTATION PLANS

1. The authority citation for Part 52 continues to read as follows:

Authority: 42 U.S.C. 7401 et seq.

Subpart F—California

2. Section 52.222, is amended by adding paragraph (a)(4)(ii)and (iii) to read as follows:

§ 52.222 Negative declarations.

* * * * *

(a) * * *

(4) * * *

(ii)

CTG source category | Negative declaration—CTG reference document
Aerospace | EPA-453/R-97-004—Control of VOC Emissions from Coating Operations at Aerospace Manufacturing and Rework Operations.
Automobile and Light-duty Truck Assembly Coatings | EPA-450/2-77-008—Control of Volatile Organic Emissions from Existing Stationary Sources—Volume II: Surface Coating of Cans, Coils, Paper, Fabrics, Automobiles, and Light-Duty Trucks.
| EPA 450/R-08-006—Control Techniques Guidelines for Automobile and Light-duty Truck Assembly Coatings.
Dry Cleaning (Petroleum) | EPA-450/3-82-009—Control of Volatile Organic Compound Emissions from Large Petroleum Dry Cleaners.
Fiberglass Boat Manufacturing | EPA 453/R-08-004—Control Techniques Guidelines for Fiberglass Boat Manufacturing Materials.
Flexible Package Printing | EPA-453/R-06-003—Control Techniques Guidelines for Flexible Package Printing.
Large Appliances Surface Coatings | EPA-450/2-77-034—Control of Volatile Organic Emissions from Existing Stationary Sources, Volume V: Surface Coating of Large Appliances.
| EPA 453/R-07-004—Control Techniques Guidelines for Large Appliance Coatings.
Magnetic Wire | EPA-450/2-77-033—Control of Volatile Organic Emissions from Existing Stationary Sources, Volume IV: Surface Coating of Insulation of Magnetic Wire.
Metal Furniture Coatings | EPA-450/2-77-032—Control of Volatile Organic Emissions from Existing Stationary Sources, Volume III: Surface Coating of Metal Furniture.
| EPA 453/R-07-005—Control Techniques Guidelines for Metal Furniture Coatings.
Natural Gas/Gasoline | EPA-450/2-83-007—Control of VOC Equipment Leaks from Natural Gas/Gasoline Processing Plants.
Paper and Fabric | EPA-450/2-77-008—Control of Volatile Organic Emissions from Existing Stationary Sources—Volume II: Surface Coating of Cans, Coils, Paper, Fabrics, Automobiles, and Light-Duty Trucks .
Paper, Film, and Foil Coatings | EPA 453/R-07-003—Control Techniques Guidelines for Paper, Film, and Foil Coatings.
Pharmaceutical Products | EPA-450/2-78-029—Control of Volatile Organic Emissions from Manufacture of Synthesized Pharmaceutical Products.
Refineries | EPA-450/2-77-025—Control of Refinery Vacuum Producing Systems, Wastewater Separators, and Process Unit Turnarounds.
| EPA-450/2-78-036—Control of VOC Leaks from Petroleum Refinery Equipment.
Rubber Tires | EPA-450/2-78-030—Control of Volatile Organic Emissions from Manufacture of Pneumatic Rubber Tires.
Ships/Marine Coating | EPA-453/R-94-032 Alternative Control Technology Document—Surface Coating Operations at Shipbuilding and Ship Repair Facilities and Ships 61 FR 44050 Shipbuilding and Ship Repair Operations (Surface Coating).
Synthetic Organic Chemical | EPA-450/3-84-015—Control of VOC Emissions from Air Oxidation Processes in Synthetic Organic Chemical Manufacturing Industry.
| EPA-450/4-91-031—Control of VOC Emissions from Reactor Processes and Distillation Operations in SOCMI.

(iii) Submitted on April 14, 2014 and adopted on February 13, 2014.

* * * * *

[FR Doc. 2014-19425 Filed 8-18-14; 8:45 am]

BILLING CODE 6560-50-P